DEPARTMENT OF THE TREASURY

Office of Foreign Assets Control

Notice of OFAC Sanctions Actions

AGENCY: Office of Foreign Assets Control, Treasury.

ACTION: Notice

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT:

OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treas.gov/ofac).

Notice of OFAC Actions

On February 13, 2019, OFAC determined that the property and interests in property subject to U.S. jurisdiction of the following persons are blocked under the relevant sanctions authorities listed below.

Entities

1. NEW HORIZON ORGANIZATION (a.k.a. THE INTERNATIONAL INSTITUTE OF INDEPENDENT THINKERS AND ARTISTS), 1st Floor, No. 91, East 2nd Aseman St., Aseman St., Ketab Sq., Tehran, Iran; website newhorizon.ir; Additional Sanctions Information—Subject to Secondary Sanctions [SDGT] [IFSR] (Linked To: ISLAMIC REVOLUTIONARY GUARD CORPS (IRGC)-QODS FORCE).

Designated pursuant to section 1(d)(i) of Executive Order 13224 of September 23, 2001, “Blocking Property and Prohibiting Transactions With Persons Who Commit, Threaten to Commit, or Support Terrorism” (E.O. 13224) for assisting in, sponsoring, or providing financial, material, or technological support for, or financial or other services to or in support of, Iran's ISLAMIC REVOLUTIONARY GUARD CORPS-QODS FORCE (IRGC-QF), a person whose property and interests in property are blocked pursuant to E.O. 13224.

2. NET PEYGARD SAMAVAT COMPANY (a.k.a. NET PEYGARD SAMAVAT (IN SEC) COMPANY), No. 11, 16 Alley, Shahid Zanhari Street, Shokoufeh Street, Abdol Abbad, Tehran 1894157315, Iran; Additional Sanctions Information—Subject to Secondary Sanctions; National ID No. 14004021920 (Iran); Business Registration Number 453542 (Iran) [HRIT-IR] (Linked To: ISLAMIC REVOLUTIONARY GUARD CORPS ELECTRONIC WARFARE AND CYBER DEFENSE ORGANIZATION).

Designated pursuant to section 1(a)(ii)(C) of Executive Order 13606 of April 22, 2012, “Blocking the Property and Suspending Entry Into the United States of Certain Persons With Respect to Grave Human Rights Abuses by the Governments of Iran and Syria via Information Technology” (E.O. 13606) for having materially assisted, sponsored, or provided financial, material, or technological support for, or goods or services to or in support of, Iran's ISLAMIC REVOLUTIONARY GUARD CORPS-ELECTRONIC WARFARE AND CYBER DEFENSE ORGANIZATION (IRGC-EWCD), a person whose property and interests in property are blocked pursuant to E.O. 13606.

Individuals

1. ABBASI, Hossein (a.k.a. ALAVI, Hossein), Iran; DOB 06 Dec 1986; nationality Iran; Additional Sanctions Information—Subject to Secondary Sanctions; Gender Male (individual) [HRIT-IR] (Linked To: NET PEYGARD SAMAVAT COMPANY).

Designated pursuant to section 1(a)(ii)(D) of E.O. 13606 for being owned or controlled by, or for having acted or purported to act for or on behalf of, directly or indirectly, NET PEYGARD SAMAVAT COMPANY, a person whose property and interests in property are blocked pursuant to E.O. 13606.

2. GHASHGHAVI, Hamed, Iran; DOB 23 Apr 1989; Additional Sanctions Information—Subject to Secondary Sanctions; Gender Male (individual) [SDGT] [IFSR] (Linked To: NEW HORIZON ORGANIZATION).

Designated pursuant to section 1(c) of E.O. 13224 for acting for or on behalf of Iran's NEW HORIZON ORGANIZATION, a person whose property and interests in property are blocked pursuant to E.O. 13224.

3. MASOUMPOUR, Mojtaba, Iran; DOB 1988; nationality Iran; Additional Sanctions Information—Subject to Secondary Sanctions; Gender Male (individual) [HRIT-IR] (Linked To: NET PEYGARD SAMAVAT COMPANY).

Designated pursuant to section 1(a)(ii)(D) of E.O. 13606 for being owned or controlled by, or for having acted or purported to act for or on behalf of, directly or indirectly, NET PEYGARD SAMAVAT COMPANY, a person whose property and interests in property are blocked pursuant to E.O. 13606.

4. MESRI, Behzad (a.k.a. “Skote Vahshat”), Iran; DOB 26 Aug 1988; alt. DOB 27 Aug 1988; POB Naghadeh, Iran; nationality Iran; Additional Sanctions Information—Subject to Secondary Sanctions; Gender Male (individual) [HRIT-IR] [CYBER2] (Linked To: NET PEYGARD SAMAVAT COMPANY).

Designated pursuant to section 1(a)(ii)(D) of E.O. 13606 for being owned or controlled by, or for having acted or purported to act for or on behalf of, directly or indirectly, NET PEYGARD SAMAVAT COMPANY, a person whose property and interests in property are blocked pursuant to E.O. 13606.

5. MIRZABEYGI, Milad, Iran; Additional Sanctions Information—Subject to Secondary Sanctions; Gender Male; National ID No. 3370084457 (Iran) (individual) [HRIT-IR] (Linked To: NET PEYGARD SAMAVAT COMPANY).

Designated pursuant to section 1(a)(ii)(C) of E.O. 13606 for having materially assisted, sponsored, or provided financial, material, or technological support for, or goods or services to or in support of, NET PEYGARD SAMAVAT COMPANY, a person whose property and interests in property are blocked pursuant to E.O. 13606.

6. MONTAZAMI, Gholamreza, Iran; DOB 1955; POB Mashhad, Iran; nationality Iran; Additional Sanctions Information—Subject to Secondary Sanctions; Gender Male (individual) [SDGT] [IFSR] (Linked To: NEW HORIZON ORGANIZATION).

Designated pursuant to section 1(c) of E.O. 13224 for acting for or on behalf of Iran's NEW HORIZON ORGANIZATION, a person whose property and interests in property are blocked pursuant to E.O. 13224.

7. ORDOUBADI, Nader Talebzadeh, Iran; DOB 1954; POB Tehran, Iran; Additional Sanctions Information—Subject to Secondary Sanctions; Gender Male (individual) [SDGT] [IFSR] (Linked To: NEW HORIZON ORGANIZATION).

Designated pursuant to section 1(c) of E.O. 13224 for acting for or on behalf of Iran's NEW HORIZON ORGANIZATION, a person whose property and interests in property are blocked pursuant to E.O. 13224.

8. PARVAR, Hossein, Iran; DOB 21 Nov 1992; Additional Sanctions Information—Subject to Secondary Sanctions; Gender Male (individual) [HRIT-IR] (Linked To: NET PEYGARD SAMAVAT COMPANY).

Designated pursuant to section 1(a)(ii)(D) of E.O. 13606 for being owned or controlled by, or for having acted or purported to act for or on behalf of, directly or indirectly, NET PEYGARD SAMAVAT COMPANY, a person whose property and interests in property are blocked pursuant to E.O. 13606.

9. SHIRINKAR, Mohammad Bagher (a.k.a. TEHRANI, Mojtaba), Iran; DOB 21 Sep 1979; nationality Iran; Additional Sanctions Information—Subject to Secondary Sanctions; Gender Male; National ID No. 0067948431 (Iran) (individual) [HRIT-IR] (Linked To: ISLAMIC REVOLUTIONARY GUARD CORPS ELECTRONIC WARFARE AND CYBER DEFENSE ORGANIZATION).

Designated pursuant to section 1(a)(ii)(C) of E.O. 13606 for having materially assisted, sponsored, or provided financial, material, or technological support for, or goods or services to or in support of, Iran's IRGC-EWCD, a person whose property and interests in property are blocked pursuant to E.O. 13606.

10. TALEBZADEH, Zeinab Mehanna (a.k.a. MEHANNA, Zeinab Naiem); DOB 19 Oct 1969; nationality Iran; alt. nationality Lebanon; Additional Sanctions Information—Subject to Secondary Sanctions; Gender Female (individual) [SDGT] [IFSR] (Linked To: NEW HORIZON ORGANIZATION).

Designated pursuant to section 1(c) of E.O. 13224 for acting for or on behalf of Iran's NEW HORIZON ORGANIZATION, a person whose property and interests in property are blocked pursuant to E.O. 13224.

Dated: February 13, 2019.
Andrea M. Gacki,
Director, Office of Foreign Assets Control, U.S. Department of the Treasury.

[FR Doc. 2019-02659 Filed 2-15-19; 8:45 am]

BILLING CODE 4810-AL-P